DEPARTMENT OF HOUSING AND URBAN DEVELOPMENT

[Docket No. FR-5683-N-103]

30-Day Notice of Proposed Information Collection: Assessment of Native American, Alaska Native and Native Hawaiian Housing Needs

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: December 27, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on August 1, 2012.

A. Overview of Information Collection

Title of Information Collection: Assessment of Native American, Alaska Native and Native Hawaiian Housing Needs.

OMB Approval Number: 2528-0288.

Type of Request: Revision of a currently approved collection.

Form Number: None.

Description of the need for the information and proposed use: The Department is conducting this study under contract with The Urban Institute and its subcontractors, NORC, Econometrica and SSI. The project is a housing needs assessment that will produce national level estimates of housing needs in tribal areas in the United States. HUD provides funding though several programs to Native American and Alaskan Native populations, most notably through the Indian Housing Block Grant. The level of housing need is of particular interest to HUD and the Congress has mandated this study. HUD has not published a study on housing needs, in general, for this population since 1996. The surveys covered by this data collection include a household survey of native Hawaiians, living in Hawaii, served by the Department of Hawaiian Home Lands.

Respondents (i.e. affected public): Native Hawaiian households on the DHHL waiting list: 500 surveys total, 10% by telephone, the remainder in-person. Native Hawaiian households residing in the home lands (potentially): 500 surveys total, 10% by telephone, the remainder in-person.

Estimation of the Total Number of Hours Needed To Prepare the Information Collection Including Number of Respondents, Frequency of Response, and Hours of Response:

Respondents | Number of respondents | Number responses per respondent | Average burden/response (in hours) | Total burden hours
Household Survey (waiting list) | 500 | 1 | 45 minutes (.75 hour) | 375
Household Survey (home lands residents) | 500 | 1 | 45 minutes (.75 hour) | 375
Total |  |  |  | 750

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapters 35.

Date: November 21, 2013.
Colette Pollard,
Department Reports Management Officer, Office of the Chief Information Officer.

[FR Doc. 2013-28513 Filed 11-26-13; 8:45 am]

BILLING CODE 4210-67-P